DEPARTMENT OF THE INTERIOR

National Park Service

[NPS-WASO-BSAD-38836; PPWOBSADI0; PPMPSAS1Y.Y00000; 255]

Notice of Availability and Request for Comments on Draft Director's Order #20 Concerning National Park Service Policies and Procedures Governing Agreements

AGENCY: National Park Service, Interior.

ACTION: Notice of availability, request for comments.

SUMMARY: The National Park Service (NPS) has prepared Director's Order #20 to set forth its policies and procedures for formalizing relationships with other entities through six, specific agreement types. Once adopted, the policies and procedures in Director's Order #20 and the accompanying Reference Manual 20 (RM-20) will supersede and replace the policies and procedures issued in Director's Order #20: Agreements, dated July 23, 2003.

DATES: Written comments will be accepted until January 27, 2025.

ADDRESSES: Draft Director's Order #20 is available online at https://www.nps.gov/subjects/policy/new.htm where readers may submit comments electronically.

FOR FURTHER INFORMATION CONTACT: Joshua Wilks, Deputy Bureau Financial Assistance Chief, NPS, NPS_DO20@nps.gov, 202-697-2035.

SUPPLEMENTARY INFORMATION: The NPS is updating its current system of internal written instructions. When these documents contain new policy or procedural requirements that may affect parties outside the NPS, they are first made available for public review and comment before being adopted. Director's Order #20 and a reference manual (subsequent to the Director's Order) will be issued. The draft Director's Order provides direction to NPS managers and employees with responsibilities for preparing, reviewing, and approving these types of agreements with other Federal and non-Federal entities: Federal Intragovernmental Agreements, Reimbursable Service Agreements with Non-Federal Entities, Financial Assistance Agreements, Cooperative Management Agreements, General Agreements, and Funding Agreements with Self-Governance Tribes.

Public Disclosure of Comments: Before including your address, telephone number, email address, or other personal identifying information in your comment, you should be aware that your entire comment—including your personal identifying information—may be made publicly available at any time. While you may ask us in your comment to withhold your personal identifying information from public review, we cannot guarantee that we will be able to do so.

Authority: 54 U.S.C. 100101(a) et seq.

Alma Ripps,
Chief, Office of Policy.

[FR Doc. 2024-30667 Filed 12-23-24; 8:45 am]

BILLING CODE 4312-52-P